DEPARTMENT OF THE INTERIOR

National Park Service

36 CFR Part 7

RIN 1024-AE08

Special Regulations; Areas of the National Park System, Saguaro National Park, Bicycle Route

AGENCY: National Park Service, Interior.

ACTION: Proposed rule.

SUMMARY: The National Park Service (NPS) is proposing to designate the Hope Camp Trail as a bicycle route within Saguaro National Park (Park). The National Park Service general regulation at 36 CFR 4.30(b) requires promulgation of a special regulation to designate bicycle routes outside of developed areas and special use zones.

DATES: Comments must be received by May 1, 2012.

ADDRESSES: You may submit comments, identified by the Regulation Identifier Number (RIN) 1024-AE08, by any of the following methods:

• Federal rulemaking portal http://www.regulations.gov. Follow the instructions for submitting comments.

• Mail or hand deliver to: Superintendent, Saguaro National Park, 3693 South Old Spanish Trail, Tucson, AZ 85730-5601.

FOR FURTHER INFORMATION CONTACT: Bob Love, Chief Ranger, Saguaro National Park, 520-591-1013.

SUPPLEMENTARY INFORMATION:

Background

Legislation and Purposes of Saguaro National Park

Due to the exceptional growth of various species of cacti, including the giant saguaro cactus, and because of outstanding scientific interest, Saguaro National Park was initially reserved as a National Monument on March 1, 1933 (Presidential Proclamation No. 2032, 47 Stat. 2557).

In 1961, Presidential Proclamation No. 3439 (76 Stat. 1437) enlarged the boundaries of the Saguaro National Monument to include certain lands within the Tucson Mountains containing a remarkable display of relatively undisturbed lower Sonoran desert vegetation, including a spectacular saguaro stand.

In October 1976, Public Law 94-567 (90 Stat. 2692) designated parts of Saguaro National Monument as a wilderness area, known as the Saguaro Wilderness.

On June 19, 1991, Congress passed Public Law 102-61 that included the “Saguaro National Monument Expansion Act of 1991” (105 Stat. 303) to authorize the addition of approximately 3,540 acres to the Rincon unit of Saguaro National Monument in order to protect, preserve, and interpret the monument's resources, and to provide for education and benefit to the public.

Under the Saguaro National Park Establishment Act of 1994 (16 U.S.C. 410zz), Saguaro National Monument was renamed Saguaro National Park.

The Park is an important national resource visited by approximately 700,000 people annually. It encompasses/includes approximately 91,450 acres, 71,400 acres of which are designated as wilderness. The Park has two Districts—the Rincon Mountain District east of Tucson and the Tucson Mountain District west of Tucson. Both are within Pima County, Arizona, and are separated by the city of Tucson. The Park protects a superb example of the Sonoran Desert ecosystem, featuring exceptional stands of Saguaro cacti. The Saguaro is the tallest cactus in the United States, and is recognized worldwide as an icon of the American Southwest.

The Hope Camp Trail is a 2.8 mile long hiking and equestrian trail that originates at the Loma Alta Trailhead and travels east through the southwestern portion of the Park's Rincon Mountain District to the Arizona State Trust Lands boundary beyond Hope Camp. The trail generally traverses relatively even terrain and rolling hills, and is lined with a variety and abundance of desert trees and shrubs. The trail is not within proposed, recommended, or designated wilderness.

Prior to NPS acquisition in the mid 1990s, the land was part of a privately-owned ranch, and the trail route was a graded dirt road used to support ranching operations. The former owner also allowed the route to be used for recreational purposes, including hiking, equestrian and bicycle use. Shortly after acquiring the land, NPS closed the route to motor vehicles and bicycles. The trail is currently open to hiker and equestrian use only. Although closed to vehicular traffic, the route remains approximately 14 feet wide, allowing adequate room for two-way passage of diverse user groups.

General Management Plan

The Park's General Management Plan/Environmental Impact Statement (GMP) was completed in 2008. The GMP may be viewed online at http://parkplanning.nps.gov/sagu.

The purposes of the GMP are as follows:

• Confirm the purpose, significance, and special mandates of the Park.

• Clearly define resource conditions and visitor uses and experiences to be achieved at the Park.

• Provide a framework for NPS managers to use when making decisions about how to:

○ Best protect Park resources;

○ Provide quality visitor uses and experiences; and

○ Manage visitor uses, and what kinds of facilities, if any, to develop in/near the Park.

• Ensure that a foundation for decision making has been developed in consultation with interested stakeholders and adopted by NPS leadership after an adequate analysis of the benefits, impacts, and economic cost of alternative courses of action.

The GMP identifies six different management zones, which are specific descriptions of desired conditions for Park resources and visitor experiences in different areas of the Park. As identified in the GMP, the Hope Camp Trail lies within the Natural Zone. Under the GMP, activities within the Natural Zone would include hiking, horseback riding, running, bicycling, and viewing flora and fauna. The zone is available for day use only, and visitors are required to stay on trails. The GMP provides that bicycling opportunities will be explored along the Hope Camp Trail.

Comprehensive Trails Management Plan/Environmental Assessment

In November 2005, the Park initiated the development of a Comprehensive Trails Management Plan/Environmental Assessment (Plan/EA) for the Park. Internal scoping occurred with Park staff, planning professionals from the NPS Intermountain Support Office, along with representatives from the U.S. Forest Service and the Sonoran Institute. External scoping included mailing and distribution of three separate newsletters, four public open house meetings and a 60-day public comment period. As a result of this process, four alternatives for the Park's Rincon Mountain District (including a no action alternative) were identified for public comments. Two alternatives called for conversion of the Hope Camp Trail into a multi-use trail, to include the use of mountain bicycles, and two alternatives kept the trail open to hikers and equestrians only. During the public comment period on the draft Plan/EA, the NPS considered 253 pieces of correspondence, containing a total of 638 comments on the draft Plan/EA alternatives.

The objectives of the Plan/EA are to:

• Prevent impairment and unacceptable impacts on natural and cultural resources.

• Provide reasonable access to the trails network and trailheads.

• Eliminate unnecessary and parallel/duplicate trails.

• Ensure that the resulting trails network is safe and maintainable.

• Provide for a clearly designated trail system.

• Provide for a variety of trail experiences.

The Plan/EA was completed in 2009. The selected alternative and the Finding of No Significant Impact (FONSI), signed by the NPS Intermountain Regional Director on July 31, 2009, calls for the conversion of the Hope Camp Trail to a multi-use trail, including bicycling. The Plan/EA and FONSI may be viewed online at http://www.nps.gov/sagu/parkmgmt/trails.

History of Bicycle Use

A 2003 rulemaking authorized bicycle use on the 2.5 mile Cactus Forest Trail that bisects the paved, 8-mile-long Cactus Forest Loop Drive in the Rincon Mountain District of the Park. This rule does not address the Cactus Forest Trail, which remains open to bicycle use, as well as hiker and equestrian use. This bicycle trail has recently been used to introduce underserved youth to the Park and the NPS via mountain bike and educational fieldtrips as part of the “Trips for Kids” program. Currently, this is the only trail in the Park open to bicycle use.

Authorizing Bicycle Use

This proposed rule would designate as a bicycle route and open to bicycle use, the approximate 2.8 mile Hope Camp Trail, from the Loma Alta Trailhead east to the Arizona State Trust Lands boundary, approximately .2 miles beyond Hope Camp. Park staff, volunteer organizations, and local interest groups would monitor and mitigate the environmental impacts of mountain bike use on the Hope Camp Trail to ensure that the trail is maintained in good condition and that issues of concern are immediately brought to the attention of Park management.

Compliance With Other Laws and Executive Orders

Regulatory Planning and Review (Executive Order 12866)

This document is not a significant rule and the Office of Management and Budget has not reviewed this rule under Executive Order 12866.

(1) This rule will not have an effect of $100 million or more on the economy. It will not adversely affect in a material way the economy, productivity, competition, jobs, the environment, public health or safety, or State, local, or tribal governments or communities.

(2) This rule will not create a serious inconsistency or otherwise interfere with an action taken or planned by another agency. This is an agency specific rule, supported by the Pima County (AZ) Parks and Recreation Department.

(3) This rule does not alter the budgetary effects of entitlements, grants, user fees, or loan programs or the rights or obligations of their recipients.

(4) This rule does not raise novel legal or policy issues. This rule implements 36 CFR 4.30 which requires the promulgation of special regulations for the designation of bicycle routes outside of developed areas and special use zones.

Regulatory Flexibility Act (RFA)

The Department of the Interior certifies that this document would not have a significant economic effect on a substantial number of small entities under the RFA (5 U.S.C. 601 et seq.). This certification is based on information contained in the report titled, “Cost-Benefit and Regulatory Flexibility Analyses for Designating Bicycle Trails in Saguaro National Park” that is available for review at http://www.nps.gov/sagu/parkmgmt/trails.

Small Business Regulatory Enforcement Fairness Act (SBREFA)

This rule is not a major rule under 5 U.S.C. 804(2), the SBREFA. This rule:

a. Does not have an annual effect on the economy of $100 million or more.

b. Would not cause a major increase in costs or prices for consumers, individual industries, Federal, State, or local government agencies, or geographic regions.

c. Does not have significant adverse effects on competition, employment, investment, productivity, innovation, or the ability of U.S.-based enterprises to compete with foreign-based enterprises.

There are no businesses in the surrounding area economically dependent on bicycle use of this trail. The park does not have any bicycle rental concessioners and current users are predominantly individuals engaged in recreational activities.

Unfunded Mandates Reform Act (UMRA)

This rule does not impose an unfunded mandate on State, local, or tribal governments or the private sector of more than $100 million per year. The rule does not have a significant or unique effect on State, local or tribal governments or the private sector. A statement containing the information required by the UMRA (2 U.S.C. 1531 et seq.) is not required.

Takings (Executive Order 12630)

Under the criteria in Executive Order 12630, this rule does not have significant takings implications. A taking implications assessment is not required because this rule will not deny any private property owner of beneficial uses of their land, nor will it significantly reduce their land's value. No taking of personal property will occur as a result of this rule.

Federalism (Executive Order 13132)

Under the criteria in Executive Order 13132, this rule does not have sufficient federalism implications to warrant the preparation of a Federalism summary impact statement. A Federalism summary impact statement is not required.

Civil Justice Reform (Executive Order 12988)

This rule complies with the requirements of Executive Order 12988. Specifically this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175)

Under the criteria in Executive Order 13175, we have evaluated this rule and determined that it has no potential effects on federally recognized Indian tribes. Affiliated Native American tribes were contacted by letters sent in December 2008 to solicit any interests or concerns with the proposed action. No responses were received by the Park.

Paperwork Reduction Act (PRA)

This rule does not contain information collection requirements, and a submission under the PRA is not required.

National Environmental Policy Act (NEPA)

We have prepared an environmental assessment and have determined that this rule will not have a significant effect on the quality of the human environment under the NEPA of 1969. The Plan/EA for the Park and FONSI that included an evaluation of bicycling on the Hope Camp Trail may be viewed online at http://www.nps.gov/sagu/parkmgmt/trails.

Effects on the Energy Supply (Executive Order 13211)

This rule is not a significant energy action under the definition in Executive Order 13211. A statement of Energy Effects is not required.

Clarity of This Regulation

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the “ADDRESSES” section. To better help us revise the rule, your comments should be as specific as possible. For example, you should tell us the numbers of the sections or paragraphs that you find unclear, which sections or sentences are too long, the sections where you feel lists or tables would be useful, etc.

Drafting Information

The primary authors of this regulation are Robert Love, Chief Ranger, Saguaro National Park, Darla Sidles, Superintendent, Saguaro National Park, John Calhoun and A.J. North, NPS Regulations Program, Washington, DC.

Public Participation

It is the policy of NPS, whenever practicable, to afford the public an opportunity to participate in the rulemaking process. Accordingly, interested parties may submit written comments, suggestions, or objections regarding this proposed rule to the addresses noted at the beginning of this rule.

Public Availability of Comments

Before including your address, phone number, email address, or other personal identifying information in your comments, you should be aware that your entire comment—including your personal identifying information—may be made publicly available at any time. While you can ask us in your comment to withhold your personal identifying information from public review, we cannot guarantee that we will be able to do so.

List of Subjects in 36 CFR Part 7

District of Columbia, National parks, Reporting and recordkeeping requirements.

In consideration of the foregoing, the NPS proposes to amend 36 CFR Part 7 as set forth below:

PART 7—SPECIAL REGULATIONS, AREAS OF THE NATIONAL PARK SYSTEM

1. Revise the authority citation for Part 7 to read as follows:

Authority: 16 U.S.C. 1, 3, 9a, 462(k); Sec. 7.96 also issued under 36 U.S.C. 501-511, DC Code 10-137 (2001) and DC Code 50-2201 (2001).

2. Revise § 7.11(a) to read as follows:

§ 7.11 Saguaro National Park.

(a) Bicycles. (1) The following trails are designated as routes for bicycle use:

(i) That portion of the Cactus Forest Trail inside the Cactus Forest Drive; and

(ii) The Hope Camp Trail, from the Loma Alta Trailhead east to the Arizona State Trust Lands boundary, .2 miles beyond Hope Camp.

(2) The Superintendent may open or close designated routes, or portions thereof, or impose conditions or restrictions for bicycle use after taking into consideration public health and safety, natural and cultural resource protection, and other management activities and objectives. The superintendent will provide public notice of all such actions through one or more of the methods listed in § 1.7 of this chapter.

* * * * *

Dated: February 22, 2012.
Rachel Jacobson,
Acting Assistant Secretary for Fish and Wildlife and Parks.

[FR Doc. 2012-5025 Filed 3-1-12; 8:45 am]

BILLING CODE P